DEPARTMENT OF TRANSPORTATION

Federal Highway Administration

Notice of Final Federal Agency Actions on Proposed Highway in Idaho

AGENCY: Federal Highway Administration (FHWA), Department of Transportation (DOT).

ACTION: Notice of limitation on claims for judicial review of actions by FHWA.

SUMMARY: This notice announces actions taken by the FHWA that are final within the meaning of 23 U.S.C. 139(l)(1). The actions relate to a proposed highway project, US-95 Thorncreek Road to Moscow in the County of Latah in the State of Idaho, FHWA Project # DHP-NH-4110(156); Idaho Transportation Department (ITD) Key #9294.

DATES: By this notice, the FHWA is advising the public of final agency actions subject to 23 U.S.C. 139(l)(1). A claim seeking judicial review of the Federal agency actions on the highway project will be barred unless the claim is filed on or before August 29, 2016. If the Federal law that authorizes judicial review of a claim provides a time period of less than 150 days for filing such claim, then that shorter time period still applies.

FOR FURTHER INFORMATION CONTACT: For FHWA, contact Kyle Holman, Operations Engineer, FHWA Idaho Division, 3050 Lakeharbor Lane #126, Boise, ID 83703, telephone 208-334-9180, extension 127, or via email at kyle.holman@dot.gov. Regular office hours are from 7:00 a.m. to 4:00 p.m., m.t., Monday through Friday, except Federal holidays. For ITD, contact Ken Helm, ITD Project Manager, P.O. Box 837, Lewiston, ID 83501, telephone 208-799-5090, or via email at ken.helm@itd.idaho.gov. Regular office hours are from 8:00 a.m. to 5:00 p.m., p.t., Monday through Friday.

SUPPLEMENTARY INFORMATION: Notice is hereby given that FHWA has taken final agency actions by issuing approvals for the following highway project in the State of Idaho: US-95 Thorncreek Road to Moscow Project No. DHP-NH-4110 (156), Latah County. The project involves improvements and realignment to section of US-95. The highway will be improved from milepost 337.67 to milepost 344.00 to improve safety and capacity of this section of US-95. The existing two-lane undivided highway from Thorncreek Road to the South Fork Palouse River Bridge will be replaced with a four-lane divided highway with a 34-foot median through the majority of the corridor. A four-lane highway with center turn lane, curb, gutter and sidewalk will be constructed at the northern end of the project. The actions by the Federal agencies, and the laws under which such actions were taken, are described in the Final Environmental Impact Statement (FEIS) and Final Section 4(f) Evaluation US-95 Thorncreek Road to Moscow (FHWA-ID-EIS-12-01-F) for the project, approved on July 28, 2015, in the FHWA Record of Decision (ROD) issued on March 21, 2016, and in other documents in the project records. The FEIS, ROD, and other project records are available by contacting FHWA or the ITD using the contact information provided above. The FEIS and ROD can be viewed and downloaded from the project Web site at http://US95Thorncreek.com. Select the link labelled “ROD” near the top of the page. Otherwise, a copy can be viewed or obtained by contacting FHWA or ITD as provided above.

This notice applies to all FHWA decisions that are final as of the issuance date of this notice and all laws and regulations under which such actions were taken, including but not limited to the following;

1. General: National Environmental Policy Act (42 U.S.C. 4321-4370h); Federal-Aid Highway Act (23 U.S.C. 109); and associated regulations (23 CFR).

2. Social and Economic: American Indian Religious Freedom Act (42 U.S.C. 1996); Uniform Relocation Assistance and Real Property Acquisition Policies Act of 1970 (42 U.S.C. 61); and the Civil Rights Act of 1964 (42 U.S.C. 2000(d)-2000(d)(1)).

3. Air: Clean Air Act (42 U.S.C. 7401-7671q) (transportation conformity).

4. Hazardous Materials: Toxic Substances Control Act (15 U.S.C. 2601-2629); Comprehensive Environmental Response, Compensation, and Liability Act (42 U.S.C. 9601-9675); and the Resource Conservation and Recovery Act (42 U.S.C. 6901-6992(k)).

5. Land: Farmland Protection Policy Act (7 U.S.C. 4201-4209); Section 4(f) of the Department of Transportation Act of 1966 (49 U.S.C. 303); and the Highway Beautification Act of 1965 (23 U.S.C. 131).

6. Wildlife: Endangered Species Act (16 U.S.C. 1531-1544); Fish and Wildlife Coordination Act (16 U.S.C. 661-667(e)); Migratory Bird Treaty Act (16 U.S.C. 703-712); National Forest Management Act (16 U.S.C. 1600-1687); and the Federal Noxious Weed Act of 1974 (7 U.S.C. 2801 et seq.).

7. Historic and Cultural Resources: Section 106 of the National Historic Preservation Act of 1966 (54 U.S.C. 306108); Archeological Resources Protection Act of 1977 (16 U.S.C. 470aa-470mm); Archeological and Historic Preservation Act (16 U.S.C. 469-469c-2); and the Native American Grave Protection and Repatriation Act (25 U.S.C. 3001-3013).

8. Wetlands and Water Resources: Clean Water Act (Sections 319, 401, and 404 404 (33 U.S.C. 1251-1387)); Safe Drinking Water Act (42 U.S.C. 300); Rivers and Harbors Act of 1899 (33 U.S.C. 401-406); and the National Flood Insurance Act of 1968 and Flood Disaster Protection Act (42 U.S.C. 4012a, 4106);

9. Executive Orders (E.O.): E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13175, Consultation and Coordination with Indian Tribal Governments; E.O. 11514, Protection and Enhancement of Environmental Quality; and E.O. 13112, Invasive Species.

(Catalog of Federal Domestic Assistance Program Number 20.205, Highway Planning and Construction. The regulations implementing E.O.12372 regarding intergovernmental consultation on Federal programs and activities apply to this program.)

Authority: 23 U.S.C. 139 (l)(1).

Issued on: March 25, 2016.
Peter J. Hartman,
FHWA Idaho Division Administrator, Boise, Idaho.

[FR Doc. 2016-07412 Filed 3-31-16; 8:45 am]

BILLING CODE 4910-RY-P